DEPARTMENT OF HEALTH AND HUMAN SERVICES

Administration for Community Living

Agency Information Collection Activities; Proposed Collection; Comment Request; Evidence-Based Falls Prevention Program Standardized Data Collection

AGENCY: Administration on Aging (AoA), Administration for Community Living (ACL), HHS.

ACTION: Notice.

SUMMARY: The Administration on Aging (AoA), Administration for Community Living (ACL), is announcing that the proposed collection of information listed below has been submitted to the Office of Management and Budget (OMB) for review and clearance under the Paperwork Reduction Act of 1995.

DATES: Submit written comments on the collection of information by October 17, 2014.

ADDRESSES: Submit written comments on the collection of information by fax 202.395.6974 to the OMB Desk Officer for ACL, Office of Information and Regulatory Affairs, OMB.

FOR FURTHER INFORMATION CONTACT: Michele Boutaugh, 404-987-3411 or Michele.boutaugh@acl.hhs.gov.

SUPPLEMENTARY INFORMATION: In compliance with 44 U.S.C. 3507, the Administration on Aging, Administration for Community Living, has submitted the following proposed collection of information to OMB for review and clearance.

ACL/AoA proposes to use this set of data collection tools to monitor grantees receiving cooperative agreements in response to the funding opportunity: “PPHF—2014—Evidence-Based Falls Prevention Programs Financed Solely by 2014 Prevention and Public Health Funds (PPHF-2014).” This data collection is necessary for monitoring grant program operations and outcomes. ACL/AoA proposes to gather information to monitor grantee progress, record location of sponsoring agencies and sites where programs are held, and document falls program participant attendance and health and demographic characteristics and short-term post participation impact. ACL/AoA intends to use an online data entry system for the program and participant survey data. In response to the 60-day Federal Register notice related to this proposed data collection and published on June 27, 2014, four sets of relevant comments were received. Most of the comments were minor suggestions for improving the ease of use and acceptability of the data collection tools. The originally proposed data collection tools, the comments with responses and a revised set of data collection tools may be found on the ACL/AoA Web site at: http://www.aoa.gov/AoARoot/AoA_Programs/Tools_Resources/collection_tools.aspx. ACL/AoA estimates the burden of this collection of information as 224 hours for project staff, 820 hours for local agency and database entry staff, and 2,000 hours for individuals. Total burden is 3,044 hours per year.

Dated: September 12, 2014.
Kathy Greenlee,
Administrator and Assistant Secretary for Aging.

[FR Doc. 2014-22184 Filed 9-16-14; 8:45 am]

BILLING CODE 4154-01-P